DEPARTMENT OF HEALTH AND HUMAN SERVICES

Centers for Disease Control and Prevention

National Center for Environmental Health/Agency for Toxic Substances and Disease Registry; The Board of Scientific Counselors (BSC); Centers for Disease Control and Prevention (CDC), National Center for Environmental Health/Agency for Toxic Substances and Disease Registry (NCEH/ATSDR); Meeting

In accordance with section 10(a)(2) of the Federal Advisory Committee Act (Pub. L. 92-463), CDC and NCEH/ATSDR announce the following meetings of the aforementioned committee.

Time and Date: 8:30 a.m.-10 a.m., December 6, 2006.

Location: Hilton Atlanta Hotel, 255 Courtland Street, Atlanta, Georgia 30303.

Supplementary Information: The BSC will convene a plenary session at the 2006 National Environmental Public Health Conference. The session topic is “Planning for the Present and Future”. The meeting will be held in a town hall forum. Registration may be required.

Time and Date: 1:30 p.m.—4:15 p.m., December 6, 2006.

Location: Hilton Atlanta Hotel, 255 Courtland Street, Atlanta, Georgia 30303.

Status: Open to the public, limited only by the space available. The meeting room accommodates approximately 100 people.

Supplementary Information: Beginning of full Board Meeting. See matters to be discussed below.

Time and Date: 9 a.m.-3 p.m., December 7, 2006.

Location: 1825 Century Boulevard, Atlanta, Georgia 30345.

Status: Open to the public, limited only by the space available. The meeting room accommodates approximately 100 people.

Purpose: The Secretary, Department of Health and Human Services (HHS) and by delegation, the Director, CDC, and Administrator, NCEH/ATSDR, are authorized under Section 301 (42 U.S.C. 241) and Section 311 (42 U.S.C. 243) of the Public Health Service Act, as amended, to: (1) Conduct, encourage, cooperate with, and assist other appropriate public authorities, scientific institutions, and scientists in the conduct of research, investigations, experiments, demonstrations, and studies relating to the causes, diagnosis, treatment, control, and prevention of physical and mental diseases and other impairments; (2) assist states and their political subdivisions in the prevention of infectious diseases and other preventable conditions and in the promotion of health and well being; and (3) train state and local personnel in health work. The BSC, NCEH/ATSDR provides advice and guidance to the Secretary, HHS; the Director, CDC, and Administrator, ATSDR; and the Director, NCEH/ATSDR, regarding program goals, objectives, strategies, and priorities in fulfillment of the agency's mission to protect and promote people's health. The board provides advice and guidance that will assist NCEH/ATSDR in ensuring scientific quality, timeliness, utility, and dissemination of results. The board also provides guidance to help NCEH/ATSDR work more efficiently and effectively with its various constituents and to fulfill its mission in protecting America's health.

Matters to be Discussed: Items will include but are not limited to discussion on the BSC's observations of the National Environmental Public Health Conference; Updates by the NCEH/ATSDR Office of the Director on appropriations; Fiscal Year 2006 accomplishments, challenges, and significant issues; updates on the Coordinating Center and its goals; presentation of the Program Peer Review Subcommittee report and discussion; presentation of the Health Department Subcommittee report and discussion; presentation of the Community and Tribal Subcommittee report and discussion; updates of the NCEH/ATSDR programs; updates on global health activities; review action items and confirm date for next meeting.

Agenda items are tentative and subject to change.

Contact Person for More Information: Sandra Malcom, Committee Management Specialist, NCEH/ATSDR, 1600 Clifton Road, Mail Stop E-28, Atlanta, Georgia 30303; telephone 404-498-0003, fax 404-498-0622; E-mail: smalcom@cdc.gov. The deadline for notification of attendance at all three meetings is November 30, 2006.

The Director, Management Analysis and Services Office, has been delegated the authority to sign Federal Register notices pertaining to announcements of meetings and other committee management activities for both CDC and NCEH/ATSDR.

Dated: November 14, 2006.
Alvin Hall,
Director, Management Analysis and Services Office, Centers for Disease Control and Prevention (CDC).

[FR Doc. E6-19543 Filed 11-17-06; 8:45 am]

BILLING CODE 4163-18-P